DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Washington Steelhead Anglers Survey.

OMB Control Number: 0648-xxxx.

Form Number(s): None.

Type of Request: Regular (request for a new information collection).

Number of Respondents: 1,652.

Average Hours per Response: Screening survey, 5 minutes; non-angler survey, 10 minutes; angler survey, 25 minutes.

Burden Hours: 444.

Needs and Uses: The Northwest Fisheries Science Center and Southwest Fisheries Science Center are undertaking an economics research project to assess the preferences of recreational steelhead anglers for trip attributes including opportunities for catching wild and hatchery steelhead. The Economic Survey of Recreational Steelhead Fishermen (ESRSF) will yield information on angling preferences that will inform management of recreational steelhead resources and steelhead hatchery operations in The Pacific Northwest. More specifically, the ESRSF will collect data needed to (1) assess the socioeconomic characteristics of recreational anglers; (2) assess the economic value of steelhead recreational fishing trips through statistical estimation of models; and (3) assess the change in these values associated with possible changes in recreational steelhead angling opportunities, including catch rates of wild and hatchery fish, site attributes, and travel costs.

Affected Public: Individuals or households.

Frequency: Once every five years.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 3, 2018.
Sarah Brabson,
NOAA PRA Clearance Officer.

[FR Doc. 2018-09837 Filed 5-8-18; 8:45 am]

BILLING CODE 3510-22-P